DEPARTMENT OF TRANSPORTATION

Federal Aviation Administration

14 CFR Part 39

[Docket No. FAA-2006-24978; Directorate Identifier 2006-NM-108-AD]

RIN 2120-AA64

Airworthiness Directives; McDonnell Douglas Model 717-200 Airplanes

AGENCY: Federal Aviation Administration (FAA), Department of Transportation (DOT).

ACTION: Supplemental notice of proposed rulemaking (NPRM); reopening of comment period.

SUMMARY: The FAA is revising an earlier proposed airworthiness directive (AD) for certain McDonnell Douglas Model 717-200 airplanes. The original NPRM would have required modifying the fuel boost pump container of the center tank. The original NPRM resulted from fuel system reviews conducted by the manufacturer. This action revises the original NPRM by adding airplanes to the applicability. We are proposing this supplemental NPRM to prevent exposing the fuel pump container vapor area to electrical arcing during a fuel pump motor case or connector burn through, which could result in a fuel tank explosion.

DATES: We must receive comments on this supplemental NPRM by May 25, 2007.

ADDRESSES: Use one of the following addresses to submit comments on this supplemental NPRM.

• DOT Docket web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Boeing Commercial Airplanes, Long Beach Division, 3855 Lakewood Boulevard, Long Beach, California 90846, Attention: Data and Service Management, Dept. C1 L5A (D800-0024), for service information identified in this proposed AD.

FOR FURTHER INFORMATION CONTACT: William Bond, Aerospace Engineer, Propulsion Branch, ANM-140L, FAA, Los Angeles Aircraft Certification Office, 3960 Paramount Boulevard, Lakewood, California 90712-4137; telephone (562) 627-5253; fax (562) 627-5210.

SUPPLEMENTARY INFORMATION:

Comments Invited

We invite you to submit any relevant written data, views, or arguments regarding this supplemental NPRM. Send your comments to an address listed in the ADDRESSES section. Include the docket number “Docket No. FAA 2006-24978; Directorate Identifier 2006-NM-108-AD” at the beginning of your comments. We specifically invite comments on the overall regulatory, economic, environmental, and energy aspects of this supplemental NPRM. We will consider all comments received by the closing date and may amend this supplemental NPRM in light of those comments.

We will post all comments submitted, without change, to http://dms.dot.gov, including any personal information you provide. We will also post a report summarizing each substantive verbal contact with FAA personnel concerning this supplemental NPRM. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level in the Nassif Building at the DOT street address stated in ADDRESSES. Comments will be available in the AD docket shortly after the Docket Management System receives them.

Discussion

We proposed to amend 14 CFR part 39 with a notice of proposed rulemaking (NPRM) for an AD (the “original NPRM”) for certain McDonnell Douglas Model 717-200 airplanes. The original NPRM was published in the Federal Register on June 8, 2006 (71 FR 33262). The original NPRM proposed to require modifying the fuel boost pump container of the center tank.

Comments

We have considered the following comments on the original NPRM.

Support for the NPRM

AirTran Airways supports the proposed actions specified in the NPRM.

Request To Refer to Latest Revision of Service Bulletin

AirTran Airways and Boeing request that we reference Boeing Service Bulletin 717-28-0013, Revision 1, dated April 7, 2006, in the NPRM (we referred to Boeing Service Bulletin 717-28-0013, dated July 28, 2004, as the appropriate source of service information for doing the actions specified in the NPRM). AirTran Airways also requests that we give credit for actions done in accordance with the original issue.

Boeing commented that there was additional work required by Revision 1, but in a subsequent comment Boeing states that this was in error and that no additional work was needed. Boeing also notes that Revision 2 of the service bulletin is being drafted.

We agree to revise this AD to refer to the latest revision of the service bulletin as the appropriate source of service information. We have reviewed Boeing Service Bulletin 717-28-0013, Revision 1, dated April 7, 2006; and Boeing Service Bulletin 717-28-0013, Revision 2, dated September 13, 2006. The service bulletins contain essentially the same actions as described in the original issue of the service bulletin.

However, Revision 1 of the service bulletin adds new airplanes to the effectivity (fuselages number 5136 through 5146), clarifies the configuration table, and clarifies the installation of the hat and cover assembles. Revision 2 of the service bulletin revises the parts pricing and clarifies the notes in the figures. We have revised this AD to refer to Revision 2 of the service bulletin.

We have also revised the parts cost from $1,145 to $1,180 in the “Costs of Compliance” paragraph of this AD. We have also added paragraph (g) to this AD to allow the original issue and Revision 1 of the service bulletin to be considered acceptable for compliance with the modification specified in this supplemental NPRM.

Operators should note that we have not revised the 78-month compliance time specified in this supplemental NPRM to match the “10 years after release date of the service bulletin” compliance time specified in Revision 2 of the service bulletin. In developing an appropriate compliance time for this action, we considered the urgency associated with the subject unsafe condition, the manufacturer's recommendation, the availability of required parts, and the practical aspect of accomplishing the proposed modification within a period of time that corresponds to the normal scheduled maintenance for most affected operators. Boeing concurs with the 78-month compliance time. However, according to the provisions of paragraph (h) of the supplemental NPRM, we may approve requests to adjust the compliance time if the request includes data that prove that the new compliance time would provide an acceptable level of safety

FAA's Determination and Proposed Requirements of the Supplemental NPRM

Certain changes discussed above expand the scope of the original NPRM; therefore, we have determined that it is necessary to reopen the comment period to provide additional opportunity for public comment on this supplemental NPRM.

Costs of Compliance

There are about 145 airplanes of the affected design in the worldwide fleet. The following table provides the estimated costs for U.S. operators to comply with this supplemental NPRM.

Estimated Costs
Action | Work hours | Average labor rate per hour | Parts | Cost per airplane | Number of U.S.- registered airplanes | Fleet cost
Modification | 2 | $80 | $1,180 | $1,340 | 114 | $152,760

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

McDonnell Douglas: Docket No. FAA 2006-24978; Directorate Identifier 2006-NM-108-AD.

Comments Due Date

(a) The FAA must receive comments on this AD action by May 25, 2007.

Affected ADs

(b) None.

Applicability

(c) This AD applies to McDonnell Douglas Model 717-200 airplanes, certificated in any category; as identified in Boeing Service Bulletin 717-28-0013, Revision 2, dated September 13, 2006.

Unsafe Condition

(d) This AD results from fuel system reviews conducted by the manufacturer. We are issuing this AD to prevent exposing the fuel pump container vapor area to electrical arcing during a fuel pump motor case or connector burn through, which could result in a fuel tank explosion.

Compliance

(e) You are responsible for having the actions required by this AD performed within the compliance times specified, unless the actions have already been done.

Modification

(f) Within 78 months after the effective date of this AD, modify the fuel boost pump container of the center tank by doing all the actions specified in the Accomplishment Instructions of Boeing Service Bulletin 717-28-0013, Revision 2, dated September 13, 2006.

Actions Accomplished According to Previous Issue of Service Bulletin

(g) Modifications accomplished before the effective date of this AD in accordance with Boeing Service Bulletin 717-28-0013, dated July 28, 2004; or Boeing Service Bulletin 717-28-0013, Revision 1, dated April 7, 2006; are considered acceptable for compliance with the corresponding action specified in this AD.

Alternative Methods of Compliance (AMOCs)

(h)(1) The Manager, Los Angeles Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Issued in Renton, Washington, on April 23, 2007.
Stephen P. Boyd,
Acting Manager, Transport Airplane Directorate, Aircraft Certification Service.

[FR Doc. E7-8176 Filed 4-27-07; 8:45 am]

BILLING CODE 4910-13-P